DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 25, 2016.

Address comments to: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on March 10, 2016.
Donald Burger,
Chief, Office of the Special Permits and Approvals.

Application number | Docket number | Applicant | Regulation(s) affected | Nature of the special permits thereof
SPECIAL PERMITS DATA
20205-N |  | Tier Holdings, LLC | 173.244 | To authorize the one-time movement of a tank built in accordance with ASME section VIII Div. 1. 2013 containing no more than 3,500 pounds of sodium metal.
20213-N |  | West Cryogenics, Inc | 172.203(a), 172.301(c), 180.211(c)(2)(i) | To authorize the repair of certain DOT 4L cylinders without requiring pressure testing to the internal jacket.
20214-N |  | University of Southern California | 177.817, 177.823(a), 172.200, 172.300, 172.602(c)(1), 172.604(a)(3), 172.400 | To authorize the transportation in commerce of certain waste materials on approximately 0.4 mile of public roads without being subject to certain hazard communication requirements.
20215-N |  | Pollux Aviation, Ltd | 175.30(a)(1), 172.101(j) | To authorize the transportation in commerce of diesel and gasoline in amounts that exceed the quantity limitations for transportation by 14 CFR part 133 Rotorcraft External Load Operations transporting hazardous materials attached to or suspended from an aircraft in remote areas of the U.S. only, when no other means of transportation are available.
20217-N |  | Nuance Medical, LLC | 171.23(b), 171.8, 173.304a(a)(1), 173.306(a)(3) | To authorize the transportation in commerce of certain Division 2.1 gases in a DOT 2Q container.
20218-N |  | Tremear, Inc | 178.345-2, 178.346-2, 178.347-2(a), 178.348-2(a) | To authorize the manufacture, marking, sale, and use of DOT 400 series cargo tank motor vehicles fabricated using materials not authorized in § 178.345-2, and thicknesses not authorized in §§ 178.346-2, 178.347-2 and 178.348-2.
20219-N |  | Coastal Helicopters, Inc | 175.30(a)(1), 175.75, 172.101(j), 172.101(j)(1), 172.200(a), 172.204(c)(3), 172.300(a), 172.300(b), 173.27(b)(2) | To authorize the transportation in commerce of certain hazardous materials by 14 CFR part 133 Rotorcraft External Load Operations, transporting hazardous materials attached to or suspended from an aircraft, in remote areas of the U.S. only, without being subject to hazard communication requirements, quantity limitations and certain loading and stowage requirements.
20220-N |  | Agility Fuel Systems, Inc | 173.220(a) | To authorize the transportation in commerce of compressed natural gas fuel systems that are not part of an internal combustion engine.
20221-N |  | Comet Technologies USA, Inc | 173.304a(a)(2) | To authorize the transportation in commerce of a Division 2.2 gas in a non-DOT specification pressure vessel.
20224-N |  | Axalta Coating Systems, LLC | 172.504(a), 173.242, 172.101(c)(10)(ii)(F)(iii), 172.302a | To authorize the transportation in commerce of certain waste paints and paint related materials, Class 3, in metal or plastic pails, packed in roll-off containers.

[FR Doc. 2016-05922 Filed 3-24-16; 8:45 am]

BILLING CODE 4909-60-M